DEPARTMENT OF THE INTERIOR

Bureau of Land Management

[LLOR930000.L63500000.DP0000.LXSS081H0000.15XL1116AF; HAG 15-0095]

Notice of Availability of the Draft Resource Management Plan Revisions and Draft Environmental Impact Statement for Western Oregon

AGENCY: Bureau of Land Management, Interior.

ACTION: Notice of Availability.

SUMMARY: In accordance with the National Environmental Policy Act of 1969, as amended, and the Federal Land Policy and Management Act of 1976, as amended, the Bureau of Land Management (BLM) has prepared Draft Resource Management Plan (RMP) Revisions and a Draft Environmental Impact Statement (EIS) for Western Oregon and, by this notice, is announcing the opening of the comment period.

DATES: To ensure that comments will be considered, the BLM must receive written comments on the Draft RMP Revisions and Draft EIS within 90 days following the date that the Environmental Protection Agency (EPA) publishes notice of the Draft RMP Revisions and Draft EIS in the Federal Register. Written comments on proposed ACEC designations must be received within 60 days following the date that the EPA publishes notice of the Draft RMP Revisions and Draft EIS in the Federal Register. The BLM will announce future meetings or hearings and any other public participation activities at least 15 days in advance through public notices, media releases, the Web site, and/or mailings.

ADDRESSES: You may submit comments related to the Draft RMP Revisions, Draft EIS, and potential ACECs for Western Oregon by any of the following methods:

• Web site: http://www.blm.gov/or/plans/rmpswesternoregon/deis.php

• Email: BLM_OR_RMPWO_Comments@blm.gov

• Fax: 503-808-6021

• Mail: BLM—EIS for Western Oregon, 1220 SW. 3rd Avenue, Portland, OR 97204, or P.O. Box 2965, Portland, OR 97208

Copies of the Draft RMP Revisions and Draft EIS for Western Oregon are available at the Oregon State Office at the above address or on the Web site at: http://www.blm.gov/or/plans/rmpswesternoregon/deis.php.

FOR FURTHER INFORMATION CONTACT: Mr. Mark Brown, RMPs for Western Oregon Project Manager; telephone: 503-808-6233; address: 1220 SW. 3rd Avenue, Portland, OR 97204, or P.O. Box 2965, Portland, OR 97208; or email at BLM_OR_RMPWO_Comments@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the Draft RMP Revisions and Draft EIS for Western Oregon encompassing approximately 2,550,000 acres of BLM-administered lands and 69,000 acres of split-estate lands in western Oregon. The documents address a range of alternatives focused on providing a sustained yield of timber, contributing to the conservation and recovery of threatened and endangered species, providing for clean water, restoring fire-adapted ecosystems, coordinating management of lands surrounding the Coquille Forest with the Coquille Tribe, and providing for recreation opportunities. The Draft RMP Revisions and Draft EIS propose to revise the RMPs for the Coos Bay, Eugene, Medford, Roseburg, and Salem Districts and the Lakeview District's Klamath Falls Resource Area. These six RMPs, completed in 1995, incorporated the land use allocations and standards and guidelines from the Northwest Forest Plan.

In 2012, the BLM conducted an evaluation of the 1995 RMPs in accordance with its planning regulations and concluded that a plan revision was necessary to address the changed circumstances and new information that had led to a substantial, long-term departure from the timber management outcomes predicted under the 1995 RMPs. Within the western Oregon districts, three BLM-administered areas are not included in the decision area: the Cascade Siskiyou National Monument (Medford District), the Upper Klamath Basin and Wood River Wetland (Klamath Falls Field Office), and the West Eugene Wetlands (Eugene District).

BLM-administered lands in the planning area include Oregon and California Railroad (O&C) lands, Coos Bay Wagon Road lands, Public Domain lands, and acquired lands. The Oregon and California Railroad and Coos Bay Wagon Road Grant Lands Act of 1937 (O&C Act) put the O&C lands under the jurisdiction of the U.S. Department of the Interior and provides the legal authority for the management of O&C lands and Coos Bay Wagon Road lands. The lands were classified as timberlands to be managed for permanent forest production, and the timber was to be sold, cut, and removed in conformity with the principle of sustained yield for the purpose of providing a permanent source of timber supply. Sustained yield management under the O&C Act also provides for the purpose of protecting watersheds, regulating stream flow, contributing to the economic stability of local communities and industries, and providing recreational facilities. The Federal Land Policy and Management Act of 1976 provides the legal authority for the management of Public Domain lands and acquired lands. These lands and resources are to be managed under the principles of multiple use and sustained yield. The land ownership patterns in western Oregon create unique management challenges. Generally, O&C land is located in odd-numbered sections and private land is located in even-numbered sections, creating a “checkerboard” ownership pattern. Activities on adjacent private lands have implications for management of the BLM-administered lands. The BLM also typically manages only a small percentage of the land in any particular watershed and, in many cases, the cumulative actions across all ownerships determine resource outcomes. In the Coast Range, checkerboard ownership is spread across the entire watershed. In the western Cascades, checkerboard ownership is mostly in the lower part of watersheds with blocked U.S. Forest Service ownership in the headwater areas.

The formal public scoping process for the RMP Revisions and EIS began on March 9, 2012, with the publication of a Notice of Intent in the Federal Register (77 FR 14414) and ended on October 5, 2012. The BLM held scoping open houses in May and June 2012. The BLM used public scoping comments to help identify planning issues that directed the formulation of alternatives and framed the scope of analysis in the Draft RMP Revisions and Draft EIS.

The Draft RMP Revisions and Draft EIS for Western Oregon analyze, in detail, four action alternatives, two sub-alternatives, and the No Action alternative. The No Action alternative would implement the 1995 RMPs, as written, into the future with no change in the management actions and level of management intensity in the planning area. There are 107 Areas of Critical Environmental Concern (ACEC) currently designated in the western Oregon districts' RMPs and described in the No Action alternative. The BLM developed the action alternatives to represent a range of overall management approaches. All action alternatives include the following land use allocations: Congressionally Reserved (e.g., wilderness, wild and scenic rivers), District-Designated Reserves, Late-Successional Reserve, Riparian Reserve, Harvest Land Base, and Eastside Management Area. The location and acreage of these allocations vary by alternative with the exception of Congressionally Reserved allocations that are common to all alternatives. Within each action alternative, the Harvest Land Base, Late-Successional Reserve, and Riparian Reserve have specific, mapped sub-allocations with differing management direction. Given the checkboard ownership patterns and the wide-spread distribution of the federally listed species in the planning area analyzed in the Draft RMP Revisions and Draft EIS, regional mitigation considerations are incorporated throughout the action alternatives.

The two sub-alternatives modify an individual component of northern spotted owl conservation and related effects on timber production.

The BLM has identified Alternative B as the preferred alternative. Identification of this alternative, however, does not represent final agency direction, and the Proposed RMP Revisions and Final EIS may reflect changes or adjustments based on information received during public comment, from new information, or from changes in BLM policies or priorities. The proposed RMPs and Final EIS may include objectives and actions described in the other analyzed alternatives or otherwise within the spectrum of the analyzed alternatives.

Alternative A has a Late-Successional Reserve larger than the No Action Alternative. The Harvest Land Base is comprised of the Uneven-Aged Timber Area and the High Intensity Timber Area. The High Intensity Timber Area includes regeneration harvest with no retention (clear cuts). Under Alternative A the BLM would designate 119 ACECs.

Alternative B has a Late-Successional Reserve similar in size to Alternative A, though of a different spatial design. The Harvest Land Base is comprised of the Uneven-Aged Timber Area, Low Intensity Timber Area, and Moderate Intensity Timber Area. The portion of the Harvest Land Base in Uneven-Aged Timber Area is the largest of all action alternatives. The Low Intensity Timber Area and Moderate Intensity Timber Area include regeneration harvest with varying levels of retention. Under Alternative B, the BLM would designate 114 ACECs.

Sub-alternative B is identical to Alternative B except that it includes protection of habitat within the home ranges of all northern spotted owl known and historic sites. Alternative C has the largest Harvest Land Base of any of the alternatives. The Harvest Land Base is comprised of the Uneven-Aged Timber Area and the High Intensity Timber Area. The High Intensity Timber Area includes regeneration harvest with no retention (clear cuts). Alternative C has the smallest acreage in the Riparian Reserve of all of the alternatives. Under Alternative C, the BLM would designate 111 ACECs.

Sub-alternative C is identical to Alternative C except that the Late-Successional Reserve includes all stands 80 years old and older.

Alternative D has the smallest Late-Successional Reserve of any of the alternatives. The Harvest Land Base is comprised of the Uneven-Aged Timber Area, Owl Habitat Timber Area, and Moderate Intensity Timber Area. The Owl Habitat Timber Area includes timber harvest applied in a manner that would maintain northern spotted owl habitat. The Moderate Intensity Timber Area includes regeneration harvest with retention. Alternative D has the largest acreage in the Riparian Reserve of all of the action alternatives. Under Alternative D, the BLM would designate 118 ACECs.

In addition to announcing the opening of the 90-day comment period on the Draft RMP Revisions and Draft EIS for Western Oregon, this notice is also announcing the start of the 60-day period for public comment on proposed Area of Critical Environmental Concern (ACEC) designations, consistent with 43 CFR 1610.7-2(b). The action alternatives in the Draft RMP Revisions and Draft EIS for Western Oregon consider the designation of 121 potential ACECs, with a variety of resource use limitations that would occur if formally designated.

The 121 potential ACECs are Brownson Ridge, Cherry Creek, China Wall, Euphoria Ridge, Hunter Creek Bog, New River, North Fork Chetco, North Fork Coquille River, North Fork Hunter Creek, North Spit, North Spit Addition, Rocky Peak, Roman Nose, Steel Creek, Tioga Creek, Upper Rock Creek, Wassen Creek, Camas Swale, Cottage Grove Old Growth, Cougar Mountain Yew Grove, Dorena Prairie, Esmond Lake, Ferguson Creek, Fox Hollow, Garoutte Prairie, Grandmother's Grove, Grassy Mountain, Heceta Sand Dunes, Horse Rock Ridge, Hult Marsh, Jordan Creek, Lake Creek Falls, Lorane Ponderosa Pine, Low Elevation Headwaters of the McKenzie River, McGowan Meadow, Mohawk, Nails Creek, Oak Basin Prairies, Upper Elk Meadows, Upper Willamette Valley Margin, Willamette Valley Prairie Oak and Pine Area, Bumpheads, Old Baldy, Spencer Creek, Surveyor, Tunnel Creek, Upper Klamath River, Upper Klamath River Addition, Yainax Butte, Baker Cypress, Bobby Creek, Brewer Spruce, Cobleigh Road, Dakubetede, Deer Creek, East Fork Whiskey Creek, Eight Dollar Mountain, French Flat, Grayback Glades, Green Springs Mt Scenic, Hole-In-The-Rock, Holton Creek, Hoxie Creek, Iron Creek, King Mountain Rock Garden, Lost Lake, Moon Prairie, North Fork Silver Creek, Old Baldy, Pickett Creek, Pipe Fork, Poverty Flat, Reeves Creek, Rough and Ready, Round Top Butte, Sterling Mine Ditch, Table Rocks, Tin Cup, Waldo-Takilma, West Fork Illinois River, Woodcock Bog, Bear Gulch, Beatty Creek, Bushnell-Irwin Rocks, Callahan Meadows, Myrtle Island, North Bank, North Myrtle Creek, Red Pond, Tater Hill, Beaver Creek, Crabtree Complex, Elk Creek, Forest Peak, Grass Mountain, High Peak—Moon Creek, Little North Fork Wilson River, Little Sink, Lost Prairie, Lower Scappoose Eagle, Mary's Peak, McCully Mountain, Middle Santiam Terrrace, Mill Creek Ridge, Molalla Meadows, Nestucca River, Rickreall Ridge, Saddle Bag Mountain, Sandy River, Silt Creek, Snow Peak, Soosap Meadows, The Butte, Valley of the Giants, Walker Flat, Waterloo, White Rock Fen, Wilhoit Springs, Williams Lake, Yaquina Head, and Yellowstone Creek.

If formally designated, the BLM would close all potential ACECs to salable mineral development, except for Sandy River, in which the BLM would close most of the potential ACEC, but minerals are owned by non-federal entities in portions of parcels 14 and 33, and Roman Nose, in which the BLM would limit salable mineral development to the existing quarry.

If formally designated, the BLM would recommend withdrawal of all or part of the following potential ACECs from locatable mineral entry: Hunter Creek Bog, New River, North Fork Chetco, North Fork Hunter Creek, Rocky Peak, Cougar Mountain Yew Grove, Grassy Mountain, Heceta Sand Dunes, Horse Rock Ridge, Low Elevation Headwaters of the McKenzie River, McGowan Meadow, Mohawk, Oak Basin Prairies, Upper Elk Meadows, Upper Willamette Valley Margin, Willamette Valley Prairie Oak and Pine Area, Bumpheads, Old Baldy, Spencer Creek, Surveyor, Tunnel Creek, Upper Klamath River, Upper Klamath River Addition, Yainax Butte, Bobby Creek, Brewer Spruce, Dakubetede, East Fork Whiskey Creek, Eight Dollar Mountain, Grayback Glades, Holton Creek, Iron Creek, North Fork Silver Creek, Pickett Creek, Pipe Fork, Reeves Creek, Rough and Ready, Table Rocks, West Fork Illinois River, Woodcock Bog, Bear Gulch, Beatty Creek, Bushnell-Irwin Rocks, Callahan Meadows, Myrtle Island, North Bank, North Myrtle Creek, Red Pond, Tater Hill, Beaver Creek, Crabtree Complex, Elk Creek, Forest Peak, Grass Mountain, High Peak—Moon Creek, Little North Fork Wilson River, Little Sink, Lost Prairie, Lower Scappoose Eagle, Mary's Peak, McCully Mountain, Middle Santiam Terrrace, Mill Creek Ridge, Molalla Meadows, Nestucca River, Rickreall Ridge, Saddle Bag Mountain, Silt Creek, Snow Peak, Soosap Meadows, The Butte, Valley of the Giants,Walker Flat, Waterloo, White Rock Fen, Wilhoit Springs, Williams Lake, Yaquina Head, Yellowstone Creek, Sandy River, French Flat, and Waldo-Takilma.

If formally designated, all potential ACECs would be open to leasable mineral entry with a no surface occupancy stipulation, except for Valley of the Giants, for which the BLM does not own sub-surface mineral rights, except for 07S-08W-31 NE1/4.

If formally designated, the BLM would close all or part of the following potential ACECs to off-highway vehicle use: Lower Scappoose Eagle, North Bank, Table Rocks, New River, Hunter Creek Bog, North Fork Hunter Creek, Camas Swale, Cottage Grove Old Growth, Cougar Mountain Yew Grove, Dorena Prairie, Esmond Lake, Ferguson Creek, Fox Hollow, Garoutte Prairie, Grandmother's Grove, Grassy Mountain, Heceta Sand Dunes, Horse Rock Ridge, Jordan Creek, Lake Creek Falls, Lorane Ponderosa Pine, Low Elevation Headwaters of the McKenzie River, McGowan Meadow, Mohawk, Nails Creek, Oak Basin Prairies, Upper Elk Meadows, Upper Willamette Valley Margin, Willamette Valley Prairie Oak and Pine Area, Old Baldy, Spencer Creek, Woodcock Bog, Bear Gulch, Beatty Creek, Bushnell-Irwin Rocks, Callahan Meadows, Myrtle Island, North Myrtle Creek, Red Pond, Tater Hill, Beaver Creek, Crabtree Complex, Forest Peak, Grass Mountain, High Peak—Moon Creek, Little Sink, Lost Prairie, McCully Mountain, Mill Creek Ridge, Molalla Meadows, Rickreall Ridge, Saddle Bag Mountain, Silt Creek, Soosap Meadows, Walker Flat, Waterloo, Williams Lake, Yaquina Head, and French Flat. In all of the remaining potential ACECs, if formally designated, the BLM would limit off-highway vehicle use to existing or designated roads and trails.

If formally designated, the BLM would preclude timber harvest or condition timber harvest to maintain relevant and important values in all potential ACECs. As explained in Chapter 1 of the Draft RMP Revisions and Draft EIS for Western Oregon, the BLM will designate and manage ACECs on O&C lands where the special management needed to maintain relevant and important values would not conflict with the planning for sustained-yield timber production for the purposes of the O&C Act.

If formally designated, the BLM would manage livestock grazing in all potential ACECs to maintain relevant and important values. The following potential ACECs are already closed to livestock grazing and would continue to be closed if formally designated: Old Baldy, Spencer Creek, Lost Lake, Round Top Butte, Table Rocks, and Poverty Flat. At the Bumpheads potential ACEC, the BLM maintains gap fence to exclude livestock and would continue that management if formally designated. The following potential ACECs are open to grazing with stipulations for fencing to control grazing that would continue if formally designated: Surveyor and Tunnel Creek. The following potential ACECs are open to grazing with stipulations to monitor important values and fence or implement other protection measures if needed and those stipulations would continue if formally designated: Cobleigh Road, Green Springs Mt Scenic, Hole-In-The-Rock, Hoxie Creek, Moon Prairie, and Tin Cup.

If formally designated, the BLM would designate all potential ACECs as Right-of-Way Avoidance Areas.

The BLM is planning a series of public meetings after the release of the Draft RMP Revisions and Draft EIS. The purpose of these meetings is to help members of the public understand the content of the Draft RMP Revisions and Draft EIS and provide meaningful and constructive comments. There will be at least six “open-house” public meetings (one meeting per District) where people can engage with BLM employees on all resources addressed in the Draft RMP Revisions and Draft EIS. The BLM will likely also be organizing issue-specific meetings on topics such as socio-economics, forestry, aquatics, and wildlife. Information on meeting locations and dates will be available at http://www.blm.gov/or/plans/rmpswesternoregon/. Following the close of the public review and comment period, any substantive public comments will be used to revise the Draft RMP Revisions and Draft EIS in preparation for their release to the public as the Proposed RMP and Final EIS. The BLM will respond to each substantive comment received during the public review and comment period by making appropriate revisions to the document or explaining why the comment did not warrant a change. Notice of the availability of the Proposed RMP and Final EIS will be posted in the Federal Register. Please note that public comments and information submitted—including names, street addresses, and email addresses of persons who submit comments—will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Jerome E. Perez,
State Director, Oregon/Washington.

Authority: 40 CFR 1506.6, 40 CFR 1506.10, 43 CFR 1610.2.

[FR Doc. 2015-09474 Filed 4-23-15; 8:45 am]

BILLING CODE 4310-33-P